DEPARTMENT OF LABOR

Employment and Training Administration

[TA-W-56,880]

Sanford North America, Sanford Paper Mate Division Including Leased Workers of Ultimate Staffing, A Division of Newell Rubbermaid; Santa Monica, CA; Notice of Termination of Investigation

Pursuant to Section 221 of the Trade Act of 1974, as amended, an investigation was initiated on April 5, 2005 in response to a petition filed by a company official on behalf of workers at Sanford North America, Sanford Paper Mate Division, including leased workers of Ultimate Staffing, a division of Newell Rubbermaid, Santa Monica, California.

The petitioner has requested that the petition be withdrawn. Consequently, the investigation has been terminated.

Signed at Washington, DC this 28th day of April 2005.
Richard Church,
Certifying Officer, Division of Trade Adjustment Assistance.

[FR Doc. E5-2418 Filed 5-13-05; 8:45 am]

BILLING CODE 4510-30-P